DEPARTMENT OF DEFENSE

Department of the Army

Notice of availability of Optical Switching Technologies for Exclusive, Partially Exclusive or Non-exclusive Licenses

AGENCY: U.S. Army Research Laboratory, DoD.

ACTION: Notice of Availability.

SUMMARY: The Department of the Army announces the general availability of exclusive, partially exclusive or non-exclusive licenses relative to a novel optical switching technologies as described in U.S. Patent# 6,075,254, Shen, et al., June 13, 2000, “Polarization Insensitive/Independent Semiconductor Waveguide Modulator Using Tensile Stressors”; U.S. Patent# 5,770,472, Zhou, et al., June 23, 1998, “Method for Making Monolithically Integrated Signal Processing Circuit Having Active and Passive Components”; U.S. patent# 5,930,031, Zhou, et al., July 27, 1999, “Monolithically Integrated Signal Processing Circuit Having Active and Passive Components”. Licenses shall comply with 35 U.S.C. 209 and 37 CFR part 404.

FOR FURTHER INFORMATION CONTACT: Michael D. Rausa, U.S. Army Research Laboratory, Office of Research and Technology Applications, ATTN: AMSRL-CS-TT/Bldg. 459, Aberdeen Proving Ground, Maryland 21005-5425, Telephone: (410) 278-5028.

SUPPLEMENTARY INFORMATION: None.

Luz D. Ortiz,
Army Federal Register Liaison Officer.

[FR Doc. 01-14516 Filed 6-7-01; 8:45 am]

BILLING CODE 3710-08-M